DEPARTMENT OF JUSTICE

Drug Enforcement Administration

[Docket No. DEA-392]

Manufacturer of Controlled Substances Registration: Sigma Aldrich Research Biochemicals, Inc.

AGENCY: Drug Enforcement Administration, Department of Justice.

ACTION: Notice of registration.

SUMMARY: Sigma Aldrich Research Biochemicals, Inc., applied to be registered as a manufacturer of certain basic classes of controlled substances. The DEA grants Sigma Aldrich Research Biochemicals, Inc. registration as a manufacturer of those controlled substances.

SUPPLEMENTARY INFORMATION: By notice dated January 15, 2014, and published in the Federal Register on February 4, 2014, 79 FR 6633, Sigma Aldrich Research Biochemicals, Inc. 1-3 Strathmore Road, Natick, Massachusetts 01760-2447, applied to be registered as a manufacturer of certain basic classes of controlled substances. No comments or objections were submitted to this notice.

The Drug Enforcement Administration (DEA) has considered the factors in 21 U.S.C. 823(a) and determined that the registration of Sigma Aldrich Research Biochemicals, Inc. to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above named company is granted registration as a bulk manufacturer of the basic classes of controlled substances listed:

Controlled substance | Schedule
Cathinone (1235) | I
Methcathinone (1237) | I
Mephedrone (4-Methyl-N-methylcathinone) (1248) | I
Aminorex (1585) | I
Alpha-ethyltryptamine (7249) | I
Lysergic acid diethylamide (7315) | I
Tetrahydrocannabinols (7370) | I
4-Bromo-2,5-dimethoxyamphetamine (7391) | I
4-Bromo-2,5-dimethoxyphenethylamine (7392) | I
4-Methyl-2,5-dimethoxyamphetamine (7395) | I
2,5-Dimethoxyamphetamine (7396) | I
3,4-Methylenedioxyamphetamine (7400) | I
N-Hydroxy-3,4-methylenedioxyamphetamine (7402) | I
3,4-Methylenedioxy-N-ethylamphetamine (7404) | I
3,4-Methylenedioxymethamphetamine (MDMA) (7405) | I
Dimethyltryptamine (7435) | I
Psilocybin (7437) | I
5-Methoxy-N, N-diisopropyltryptamine (7439) | I
1-[1-(2-Thienyl)cyclohexyl]piperidine (TCP) (7470) | I
N-Benzylpiperazine (BZP) (7493) | I
MDPV (3,4-Methylenedioxypyrovalerone) (7535) | I
Methylone (3,4-Methylenedioxy-N-methylcathinone) (7540) | I
Heroin (9200) | I
Normorphine (9313) | I
Amphetamine (1100) | II
Methamphetamine (1105) | II
Nabilone (7379) | II
1-Phenylcyclohexylamine (7460) | II
Phencyclidine (7471) | II
Cocaine (9041) | II
Codeine (9050) | II
Ecgonine (9180) | II
Levomethorphan (9210) | II
Levorphanol (9220) | II
Meperidine (9230) | II
Metazocine (9240) | II
Methadone (9250) | II
Morphine (9300) | II
Thebaine (9333) | II
Levo-alphacetylmethadol (9648) | II
Remifentanil (9739) | II
Sufentanil (9740) | II
Carfentanil (9743) | II
Fentanyl (9801) | II

The company plans to manufacture reference standards.

Dated: November 25, 2014.
Joseph T. Rannazzisi,
Deputy Assistant Administrator.

[FR Doc. 2014-29119 Filed 12-10-14; 8:45 am]

BILLING CODE 4410-09-P